NUCLEAR REGULATORY COMMISSION

[NRC-2010-0362]

Report on Waste Burial Charges: Changes in Decommissioning Waste Disposal Costs at Low-Level Waste Burial Facilities

AGENCY: Nuclear Regulatory Commission.

ACTION: Draft NUREG-1307, revision 15; extension of comment period.

SUMMARY: On September 21, 2012 (77 FR 58591), the U.S. Nuclear Regulatory Commission (NRC or the Commission) issued Draft NUREG-1307, Revision 15, “Report on Waste Burial Charges: Changes in Decommissioning Waste Disposal Costs at Low-Level Waste Burial Facilities,” in the Federal Register for a 30 day public comment period. The NRC is extending the public comment period for Draft NUREG-1307, Revision 15 from October 22, 2012, to November 15, 2012. Draft NUREG-1307, Revision 15, Draft Report for Comment incorporates updated information and expands on the NUREG-1307, Revision 14 report published in November 2010. NUREG-1307, Revision 15, also incorporates changes resulting from a reassessment of the assumptions used for the vendor waste disposal option for low-level waste.

DATES: Submit comments by November 15, 2012. Comments received after this date will be considered if it is practical to do so, but the NRC is able to ensure consideration only for comments received on or before this date. Although a time limit is given, comments and suggestions in connection with items for inclusion in guides currently being developed or improvements in all published guides are encouraged at any time.

ADDRESSES: You may access information and comment submissions related to this document, which the NRC possesses and are publicly available, by searching on http://www.regulations.gov under Docket ID NRC-2010-0362. You may submit comments by any of the following methods:

• Federal Rulemaking Web site: Go to http://www.regulations.gov and search for Docket ID NRC-2010-0362. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Jo Ann Simpson, Office of Nuclear Reactor Regulation, U.S. Nuclear Regulatory Commission, Washington, DC 20555-0001; telephone: 301-415-8388; email: JoAnn.Simpson@nrc.gov.

SUPPLEMENTARY INFORMATION:

I. Accessing Information and Submitting Comments

A. Accessing Information

Please refer to Docket ID NRC-2010-0362 when contacting the NRC about the availability of information regarding this document. You may access information related to this document, which the NRC possesses and are publicly available, by any of the following methods:

• Federal Rulemaking Web site: Go to http://www.regulations.gov and search for Docket ID NRC-2010-0362.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft regulatory guide is available electronically under ADAMS Accession Number ML12257A191.

• NRC's PDR: You may examine and purchase copies of public documents at the NRC's PDR, Room O1-F21, One White Flint North, 11555 Rockville Pike, Rockville, Maryland 20852.

B. Submitting Comments

Please include Docket ID NRC-2010-0362 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

On September 21, 2012 (77 FR 58591), the NRC published a notice of issuance and availability of Draft NUREG-1307, Revision 15. The draft NUREG proposed a reduction in the estimate of the potential savings from using waste vendors to process radioactive waste generated during power reactor decommissioning. The change resulted in an increase in the minimum permissible amount of decommissioning financial assurance required by the licensee. By letter dated September 26, 2012, (ADAMS Accession No. ML12271A275), the Nuclear Energy Institute requested an extension of the stated comment period for the purpose of providing sufficient time for the industry to thoroughly understand and assess the proposed changes, interact with the agency staff to obtain necessary clarifications at one or more focused public meetings, and provide-fully supported written comments to inform development of the final NUREG-1307, Revision 15. It is the desire of the NRC to receive comments of a high quality from all stakeholders. Several factors have been considered in granting an extension. The comment period extension is reasonable and does not affect NRC deadlines. The additional time will allow adequate time for the NRC to review comments, organize a public workshop on NUREG-1307, Revision 15, and finalize NUREG-1307, Revision 15, for use by licensees before the required submission of power reactor Decommissioning Funding Status reports by the March 31, 2013, due date. The NRC continues to evaluate factors affecting waste burial costs. Guidance developed by the NRC staff would benefit from industry information reflecting real world burial cost data and other such information that could assist in evaluating changes to the waste burial factor. Such information would include: (1) Actual disposal costs, under proprietary cover, if necessary; (2) Disposal costs specific to disposal operations for Rancho Saco and Zion Solutions, under proprietary cover, if necessary, (3) Identification of misinterpreted or misapplied data, if any, found in Table A-4 of NUREG-1307, Revision 15; and (4) Licensees' site-specific cost estimates and time assumptions. The NRC also seeks comments from other stakeholders on the costs and benefits of reducing the estimate of potential savings in decommissioning costs available from using a waste vendor to process power reactor decommissioning wastes. Therefore the comment submittal period is extended from the original date of October 22, 2012 to November 15, 2012.

Dated at Rockville, Maryland, this 10th day of October, 2012.
For the Nuclear Regulatory Commission.
Jo Ann Simpson,
Acting Chief, Financial Analysis and International Projects Branch. Division of Inspection and Regional Support, Office of Nuclear Reactor Regulation.

[FR Doc. 2012-25848 Filed 10-18-12; 8:45 am]

BILLING CODE 7590-01-P